DEPARTMENT OF COMMERCE

Census Bureau

2002 Economic Census General Refile Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 2, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to James E. Kristoff, Bureau of the Census, Room 2129, Building 4, Washington, DC 20233-6100, and 301-457-4631 or email at James.E.Kristoff@census.gov.

SUPPLEMENTARY INFORMATION:

I. Abstract

The Census Bureau is the preeminent collector of timely, relevant and quality data about the people and economy of the United States. Economic data are the Census Bureau's primary program commitment during non-decennial census years. The economic census, conducted under authority of Title 13 U.S.C., is the primary source of facts about the structure and functioning of the Nation's economy and features unique industry and geographic detail. Economic census statistics serve as part of the framework for the national accounts and provide essential information for government, business and the general public.

This data collection, Form NC-9923 is designed to collect information needed to assign an appropriate NAICS industry classification. This form will be mailed to: (1) establishments with a significant amount of receipts but without payroll, (2) new businesses with large amounts of payroll but with little or no industry classification information, and (3) establishments misclassified as farms but reporting large amounts of non-farm payroll. Establishments with significant amounts of receipts but without payroll are normally excluded from the economic census. This data collection will not only determine accurate NAICS classifications, but will also identify whether or not these establishments have paid employees.

New businesses are assigned industry classifications by the Social Security Administration (SSA). However, many of these businesses do not provide sufficient information to assign an industry code. This refile operation will ensure a proper NAICS classification assignment, ensuring that an appropriate economic census questionnaire is mailed to all businesses.

Finally, establishments currently classified as farms and reporting substantial amounts of non-farm payroll may be misclassified and excluded from the 2002 Economic Census. This refile operation will identify the appropriate NAICS classification for these establishments and determine whether or not these establishments are in scope of the 2002 Economic Census.

In addition to the NC-9923 form, these establishments will also receive a new Company Affiliation/Locations of Operation Flyer. This flyer will allow the Census Bureau to identify companies that operate multiple locations prior to the 2002 Economic Census mailout. This form will be tested and evaluated and, if effective, will be used in the 2002 Economic Census.

The Census Bureau is not requesting any economic data in this collection. The collection of this NAICS information will greatly reduce processing costs and ease reporting burden for the 2002 Economic Census data collection.

II. Method of Collection

The Census Bureau will mail out Form NC-9923 to the following groups: (1) large establishments without a detailed NAICS classification, (2) establishments with significant receipts but without payroll, and (3) establishments currently classified as farms with substantial amounts of non-farm payroll.

The form will contain a list of codes and descriptions describing business activities. Respondents simply check the box that best describes their business activity or describe their business activity if no box is appropriate.

The Company Affiliation flyer will ask the respondent to indicate if they are part of or own another company. If the respondent indicates it is part of or owns another company, the Census Bureau will link those establishments prior to the mailout of the 2002 Economic Census.

III. Data

OMB Number: Not Available.

Form Number: NC-9923, Company Affiliation/Locations of Operation Flyer.

Type of Review: Regular Review.

Affected Public: Businesses or Other for Profit Organizations, Small Businesses or Organizations, Non-profit Institutions, State or Local Governments, and Farms.

Estimated Number of Respondents: 200,000.

Estimated Time Per Response: 10 minutes.

Estimated Total Annual Burden Hours: 33,333 hours.

Estimated Total Annual Cost: $506,662

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 23, 2001.
Madeleine Clayton,
Departmental Forms Clearance Officer.

[FR Doc. 01-2526 Filed 1-29-01; 8:45 am]

BILLING CODE 3510-07-P